DEPARTMENT OF ENERGY

Blue Ribbon Commission on America's Nuclear Future

AGENCY: Department of Energy, Office of Nuclear Energy.

ACTION: Notice of Closed Meeting.

SUMMARY: This notice announces a closed meeting of the Blue Ribbon Commission on America's Nuclear Future (the Commission). The Commission was organized pursuant to the Federal Advisory Committee Act (Pub. L. 92-463, 86 Stat. 770) (the Act). This notice is provided in accordance with the Act.

Due to national security considerations, under section 10(d) of the Act and 5 U.S.C. 552b(c), the meeting will be closed to the public and matters to be discussed are exempt from public disclosure under Executive Order 13526 and the Atomic Energy Act of 1954, 42 U.S.C. 2161 and 2162, as amended.

This notice is being published less that 15 days from the date of the meeting due to logistical circumstances, Commissioners' availability, and the inability to delay and reschedule the meeting in a timely fashion.

DATES: Thursday, February 3, 2011, 8:30 a.m.-4 p.m.

ADDRESSES: Navy Shipyard, 1333 Isaac Hull Avenue, SE., Washington, DC 20376.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information will be available at http://www.brc.gov.

SUPPLEMENTARY INFORMATION: Background: The President directed that the Commission be established to conduct a comprehensive review of policies for managing the back end of the nuclear fuel cycle. The Commission will provide advice and make recommendations on issues including alternatives for the storage, processing, and disposal of civilian and defense spent nuclear fuel and nuclear waste. The Commission is scheduled to submit a draft report to the Secretary of Energy in July 2011 and a final report in January 2012.

This is the first closed full Commission meeting. Previous open full Commission meetings were held in March, May, July, September, and November 2010. Webcasts of the previous open meetings along with meeting transcripts and presentation are available at http://www.brc.gov.

Purpose of the Meeting: The purpose of this meeting is to provide Commissioners with classified briefings and hold discussions which they are unable to receive in an open meeting because the disclosure of such information is specifically authorized under criteria established by Executive Order 13526 to be kept secret in the interests of national defense and is exempt from disclosure under the Atomic Energy Act, 42 U.S.C. 4161 and 4162.

The Commission's charter directs the Commission to “conduct a comprehensive review of policies for managing the back end of the nuclear fuel cycle, including all alternatives for the storage, processing, and disposal of civilian and defense used nuclear fuel, high-level waste, and materials derived from nuclear activities.” In support of that effort, the Commission will receive classified briefings and hold classified discussions on various topics relating to fuel cycle technologies, material attractiveness and weapons usability, design basis threats to commercial used nuclear fuel and commercial power reactors, and Navy nuclear fuel. Therefore, the purpose for closing this meeting is proper and consistent with the exemptions set forth in 5 U.S.C. 552b(c).

Tentative Agenda: The meeting is expected to start at 8:30 a.m. on Thursday, February 3, 2011 and conclude at approximately 4 p.m.

Public Participation: There will be no public participation in this closed meeting. As always, those wishing to provide written comments or statements to the Commission are invited to send them to Timothy A. Frazier, U.S. Department of Energy, 1000 Independence Avenue, SW., Washington, DC 20585, e-mail to CommissionDFO@nuclear.energy.gov, or post comments on the Commission Web site at http://www.brc.gov.

Minutes: The minutes of the meeting will not be available.

Issued in Washington, DC on January 20, 2011.
Carol A. Matthews,
Committee Management Officer.

[FR Doc. 2011-1600 Filed 1-25-11; 8:45 am]

BILLING CODE 6450-01-P